DEPARTMENT OF THE INTERIOR

Bureau of Land Management

[LLMT926000-L19100000-BJ0000-LRCM08RS4053]

Montana: Filing of Plat of Survey

AGENCY: Bureau of Land Management, Montana State Office, Interior.

ACTION: Notice of Filing of Plat of Survey.

SUMMARY: The Bureau of Land Management (BLM) will file the plat of survey of the lands described below in the BLM Montana State Office, Billings, Montana, (30) days from the date of publication in the Federal Register .

FOR FURTHER INFORMATION CONTACT: Martin Bonorden, Cadastral Surveyor, Branch of Cadastral Survey, Bureau of Land Management, 5001 Southgate Drive, Billings, Montana 59101-4669, telephone (701) 227-7730 or (406) 896-5009.

SUPPLEMENTARY INFORMATION: This survey was executed at the request of the Fort Peck Agency, through the Rocky Mountain Regional Director, Bureau of Indian Affairs, and was necessary to determine Trust and Tribal lands.

The lands we surveyed are:

Principal Meridian, Montana

T. 27 N., R. 54 E.

The plat, in 4 sheets, representing the dependent resurvey of a portion of the 13th Guide Meridian East, through Township 27 North, and a portion of the west and north boundaries, the corrective dependent resurvey of the lines between sections 1 and 2, sections 2 and 3, and sections 9 and 10, the dependent resurvey of a portion of the subdivisional lines, a portion of the subdivision of sections 1, 2, 3, and 6, and the adjusted original meanders of the left bank of the Missouri River, downstream through sections 1, 2, 3, 6, and 12, the subdivision of sections 1, 2, and 3, and the survey of the meanders of the present left bank of the Missouri River, downstream through sections 1, 2, 3, and 6, the meanders of the left bank of a relicted channel of the Missouri River, downstream through section 1, the medial lines of two relicted channels of the Missouri River, certain partition lines, and Tract 41, Township 27 North, Range 54 East, Principal Meridian, Montana, was accepted February 6, 2009.

We will place a copy of the plat, in 4 sheets, and related field notes we described in the open files. They will be available to the public as a matter of information.

If BLM receives a protest against this survey, as shown on this plat, in 4 sheets, prior to the date of the official filing, we will stay the filing pending our consideration of the protest.

We will not officially file this plat, in 4 sheets, until the day after we have accepted or dismissed all protests and they have become final, including decisions or appeals.

Dated: February 10, 2009.
Michael T. Birtles,
Chief Cadastral Surveyor, Division of Resources.

[FR Doc. E9-3255 Filed 2-13-09; 8:45 am]

BILLING CODE 4310-$$-P